DEPARTMENT OF LABOR

Bureau of International Labor Affairs, Office of Trade and Labor Affairs: Extension of Deadline for Solicitation for Cooperative Agreement Application (SGA) 07-04 Strengthening Career Civil Service Systems of Labor Inspectorates in Central America

AGENCY: Bureau of International Labor Affairs, Office of Trade and Labor Affairs, Department of Labor.

ACTION: Notice.

SUMMARY: This notice extends the closing date for SGA 07-04 until April 9, 2007.

FOR FURTHER INFORMATION CONTACT: Lisa Harvey, Department of Labor, Procurement Services Center, Room S-4307, 200 Constitution Ave., NW., Washington DC 20210, Telephone (202) 693-4592, e-mail: Harvey-lisa@dol.gov.

Signed this 5th day of March 2007.
Lisa Harvey,
Grant Officer.

[FR Doc. E7-4181 Filed 3-8-07; 8:45 am]

BILLING CODE 4510-28-P